DEPARTMENT OF HEALTH AND HUMAN SERVICES

Food and Drug Administration

[Docket No. FDA-2014-N-0801]

Agency Information Collection Activities; Submission for Office of Management and Budget Review; Comment Request; Exports: Notification and Recordkeeping Requirements; Correction

AGENCY: Food and Drug Administration, HHS.

ACTION: Notice; correction.

SUMMARY: The Food and Drug Administration (FDA) is correcting a notice that appeared in the Federal Register of October 14, 2014. The document announced that a proposed collection of information had been submitted to the Office of Management and Budget (OMB) for review and clearance under the Paperwork Reduction Act of 1995. In this document, we correct some errors that appeared in the notice.

FOR FURTHER INFORMATION CONTACT: FDA PRA Staff, Office of Operations, Food and Drug Administration, 8455 Colesville Rd., COLE-14526, Silver Spring, MD 20993-0002, PRAStaff@fda.hhs.gov.

SUPPLEMENTARY INFORMATION: In FR Doc. 2014-24293, appearing on page 61643 in the Federal Register of October 14, 2014 (79 FR 61643), we make the following correction: On page 61644, replace table 1 with the following table:

Table 1—Estimated Annual Reporting Burden ¹
21 CFR section | Number of respondents | Number of responses per respondent | Total annual responses | Average burden per response | Total hours
1.101(d) (Non-Tobacco) (CBER) | 5 | 193 | 965 | 15 | 14,475
1,101(d) (Non-Tobacco) (CDER) | 5 | 180 | 900 | 15 | 13,500
1.101(d) (Non-Tobacco) (CDRH) | 63 | 130 | 8,190 | 15 | 122,850
Total ² |  |  |  |  | 150,825
¹ There are no capital costs or operating and maintenance costs associated with this collection of information.
² Due to a clerical error, the reporting burden for “Exports: Notification and Recordkeeping Requirements”, which published on July 3, 2014 (79 FR 38036), was incorrect. Table 1 of this document contains the correct reporting burden for this collection.

Dated: October 27, 2014.
Leslie Kux,
Assistant Commissioner for Policy.

[FR Doc. 2014-25910 Filed 10-30-14; 8:45 am]

BILLING CODE 4164-01-P